NUCLEAR REGULATORY COMMISSION

[Docket Nos. 50-220 and 50-410]

Niagara Mohawk Power Corporation, New York State Electric & Gas Corporation, Nine Mile Point Nuclear Station, Units 1 and 2; Notice of Withdrawal of Application for Approval of Transfer of Facility Operating Licenses and Conforming Amendments

The U.S. Nuclear Regulatory Commission (the Commission) has permitted the withdrawal of the application dated September 10, 1999, filed by Niagara Mohawk Power Corporation (NMPC), New York State Electric & Gas Corporation (NYSEG) and AmerGen Energy Company, LLC (AmerGen), which had requested Commission approval of the proposed transfer of the licenses for Nine Mile Point Nuclear Station, Units 1 and 2, to the extent held by NMPC and NYSEG, to AmerGen.

The Commission had previously published a Notice of Consideration of Approval of Transfer of Facility Operating Licenses and Conforming Amendments, and Opportunity for a Hearing (64 FR 52798, dated September 30, 1999). Pursuant to such notice, three current co-owners of the facility (Rochester Gas And Electric Corporation, Central Hudson Gas & Electric Corporation, and Long Island Lighting Company) filed hearing requests and petitions to intervene in opposition to the application. The Attorney General of the State of New York also filed a petition to intervene. By a joint letter dated May 24, 2000, the applicants NMPC, NYSEG and AmerGen withdrew their application. In addition, by a motion filed that same date, the applicants requested dismissal of the proceeding regarding the hearing requests that have been pending before the Commission. By order dated June 13, 2000, the Commission terminated that proceeding.

For further details with respect to this withdrawal, see (1) NMPC, NYSEG and AmerGen's letter dated May 24, 2000, available for public inspection at the Commission's Public Document Room, the Gelman Building, 2120 L Street, NW., Washington, DC; and (2) the Commission's Order dated June 13, 2000, dismissing the license transfer proceeding. Alternately, these documents may be viewed electronically under Accession Numbers ML003719110 and ML003723369 thru the ADAMS Public Electronic Reading Room link at the NRC website (http://www.nrc.gov).

Dated at Rockville, Maryland, this 13th day of July, 2000.
For the Nuclear Regulatory Commission.
Peter S. Tam,
Senior Project Manager, Section 1, Project Directorate I, Division of Licensing Project Management, Office of Nuclear Reactor Regulation.

[FR Doc. 00-18426 Filed 7-19-00; 8:45 am]

BILLING CODE 7590-01-P